DEPARTMENT OF HEALTH AND HUMAN SERVICES

Health Care Financing Administration

[HCFA-3073-N]

Medicare Program; Town Hall Meeting on Physician Query Forms

AGENCY: Centers for Medicare and Medicaid Services (CMS), HHS.

ACTION: Notice of meeting.

SUMMARY: This notice announces a Town Hall meeting to discuss the use of coding summary forms (in this case, physician query forms) when the record is reviewed by a Peer Review Organization (PRO) to validate DRG coding. Physicians, providers, coding specialists, medical records staff, quality improvement professionals, and other interested parties are invited to this meeting to present their individual views on physician query forms. The opinions and alternatives provided during this meeting will assist us as we evaluate our policy on the use of physician query forms by PROs in verifying hospital coding. The meeting is open to the public, but attendance is limited to space available.

DATES: Meeting Date: The Town Hall meeting announced in this notice will be held on Friday, July 27, 2001, from 1:30 p.m. to 5:00 p.m. (Eastern Standard Time).

ADDRESSES: The Town Hall meeting will be held in the main auditorium of the Centers for Medicare and Medicaid Services building, 7500 Security Boulevard, Baltimore, MD 21244.

Written Questions or Statements: Any interested party may send written comments by mail, fax, or electronically. We will accept written testimony, questions, or other statements, not to exceed (4) single-spaced, typed pages, before the meeting, and up until August 10, 2001. Send written testimony, questions or other statements to: Sheila Blackstock, Quality Improvement Group, Office of Clinical Standards and Quality, Centers for Medicare and Medicaid Services, S3-021-01, 7500 Security Boulevard, Baltimore, Maryland 21244-1850.

FOR FURTHER INFORMATION CONTACT: Sheila Blackstock, (410) 786-3502 or Lana Reed, (410) 786-6875. You may also send inquiries about this meeting via email to www.querymtg@hcfa.gov.

SUPPLEMENTARY INFORMATION:

I. Background

Section 1866(a)(1)(F) of the Social Security Act and 42 CFR Part 476.71(a) require PROs to perform a number of review activities, including DRG validation review of inpatient hospital prospective payment system cases to make determinations as appropriate, in accordance with the terms of their contracts.

Section 4130 of the PRO Manual directs PROs to:

• Review medical records to ensure that the record and the information on the claim submitted by the hospital agree;

• Base DRG validation upon accepted principles of coding practice; and

• Verify a hospital's coding in accordance with the coding principles reflected in the current edition of the ICD-9-CM coding manual.

In January, 2001, we issued a policy memorandum to PROs directing them not to accept coding summary forms (physician query forms) as documentation in the medical record following DRG validation procedures specified in section 4130 of the PRO Manual. While this memorandum did not mandate an outright prohibition of the use of summary forms, it did prohibit PROs from using coding summary forms as a substitute for documentation in the medical record.

The policy memorandum generated a high level of public interest. Subsequently, we recognized that there are varied interpretations of what constitutes proper supplemental usage of coding summary forms. As a result, in March 2001, we issued a second policy memorandum that suspended implementation of the January 2001 memorandum until October 1, 2001. We now seek individual input from interested parties so that it may be considered as we re-evaluate this policy.

II. Meeting Format

The initial portion of the meeting will be a presentation of our policy and our concerns with the use of physician query forms. The remainder of the meeting will be reserved for individual statements from interested parties.

Time for participants to make a statement will be limited according to the number of registered participants. Therefore, individuals who wish to make a statement must contact the individuals identified in FOR FURTHER INFORMATION, above, as soon as possible to sign up to make a statement. Participants will be permitted to speak in the order in which they sign up. Comments from individuals not registered to speak will be heard after scheduled statements only if time permits.

Written submissions will also be accepted.

III. Registration Instructions

The Office of Clinical Standards and Quality is coordinating meeting registration. While there is no registration fee, individuals must register to attend. You may register by sending a fax to the attention of Lana Reed or Sheila Blackstock. The fax number is (410) 786-8532. Please include your name, address, telephone number, and, if available, email address and fax number. You will receive a registration confirmation with instructions for your arrival at the CMS complex. If seating capacity has been reached, you will be notified that the meeting has reached capacity.

Authority: Sec. 1871 of the Social Security Act (42 U.S.C. 1395hh).

(Catalog of Federal Domestic Assistance Program No. 93.773 Medicare—Hospital Insurance Program; and Program No. 93.778, Medical Assistance Program)
Dated: June 28, 2001.
Thomas A. Scully,
Administrator, Health Care Financing Administration.

[FR Doc. 01-16744 Filed 7-2-01; 8:45 am]

BILLING CODE 4120-01-P